DEPARTMENT OF COMMERCE

Bureau of Industry and Security

15 CFR Parts 738, 740, 742 and 774

[Docket No. 241113-0293]

RIN 0694-AJ63

Implementation of Additional Controls on Pakistan

AGENCY: Bureau of Industry and Security, Department of Commerce.

ACTION: Final rule.

SUMMARY: The Bureau of Industry and Security (BIS) is amending the Export Administration Regulations (EAR) by imposing new licensing requirements on exports, reexports, and transfers (in-country) to and within Pakistan of certain items identified on the Commerce Control List (CCL) that are not currently subject to a license requirement when destined for Pakistan. This change is being made to ensure that such transactions receive U.S. government review to reduce the risk of diversion to an end use or end user of concern.

DATES: This rule is effective November 25, 2024, except for amendatory instruction 6, which is effective November 25, 2024.

FOR FURTHER INFORMATION CONTACT: For questions on this rule, contact Philip Johnson at RPD2@bis.doc.gov or (202) 482-2440.

SUPPLEMENTARY INFORMATION:

Background

BIS implements export controls on dual-use and certain munitions items (commodities, software, and technology) under the EAR (15 CFR parts 730-774) to advance U.S. national security and foreign policy interests. Among other controls, the EAR restricts the export, reexport, and transfer (in-country) of items based on their classification on the CCL (supp. no. 1 to 15 CFR part 774) and relevant reason(s) for control (see 15 CFR part 742) applicable to the country of destination, as generally determined by the Commerce Country Chart (supp. no. 1 to 15 CFR part 738). BIS also maintains end-use and end-user controls pursuant to part 744 of the EAR, including controls on transactions involving less-sensitive items designated as EAR99, and controls that apply to specific activities of U.S. persons. Additionally, BIS maintains embargoes and special controls pursuant to part 746 of the EAR. With respect to Pakistan, BIS maintains a combination of CCL-based, end-use, and end-user controls. The end-use controls include a license requirement for the export, reexport, or transfer (in-country) of items subject to the EAR to or within Pakistan when there is knowledge that the items will be used in certain nuclear end uses (see 15 CFR 744.2) or in certain rocket system or unmanned aerial vehicle (e.g., missile) end uses (see 15 CFR 744.3). The end-user controls include Entity List and Unverified List restrictions on exports, reexports, and transfers (in-country) of certain items subject to the EAR that apply when specific entities in Pakistan are parties to the transaction pursuant to part 744 of the EAR (see supps. no. 4 and 6 to 15 CFR part 744).

In 1998, Pakistan detonated a nuclear explosive device. In response, BIS imposed further licensing requirements on certain entities in Pakistan determined to have been involved in nuclear or missile activities by adding those entities to the Entity List (63 FR 64322, November 19, 1998). Since that time, BIS has added additional entities in Pakistan to the Entity List. There are currently over 100 entities on the Entity List under the destination of Pakistan. Pursuant to § 744.11(b) of the EAR, BIS has added such entities consistent with the interagency End-User Review Committee's determination that there was reasonable cause to believe, based on specific and articulable facts, that such entities are involved, have been involved, or pose a significant risk of being or becoming involved in, activities contrary to U.S. national security or foreign policy interests. For example, in 2021, BIS added 11 entities to the Entity List, under the destination of Pakistan for, inter alia, contributions to Pakistan's unsafeguarded nuclear activities and ballistic missile program (86 FR 67317, November 26, 2021). In 2022, BIS added three entities to the Entity List, under the destination of Pakistan, because the entities pose an unacceptable risk of using or diverting items subject to the EAR to certain nuclear end-uses and certain rocket systems and unmanned aerial vehicles end-uses (87 FR 38920, June 28, 2022).

This rule addresses BIS's concern that certain CCL items controlled only for antiterrorism (AT) reasons (and hence not currently subject to a CCL-based license requirement for export or reexport, or transfer (in-country) to or within Pakistan) have been sought by entities listed on the Entity List, as well as front companies acting on behalf of such entities. Specifically, entities on the Entity List have sought items classified under the following Export Control Classification Numbers (ECCNs): (1) 1B999 (“Specific Processing Equipment, n.e.s.”); (2) 2A992 (“Piping, fittings and valves made of, or lined with stainless, copper-nickel alloy or other alloy steel containing 10% or more nickel and/or chromium”); (3) 2B999 (“Specific Processing Equipment, n.e.s.”); (4) 3A992 (“General purpose electronic equipment not controlled by 3A002”); (5) 3A999 (“Specific Processing Equipment, n.e.s.”); and (6) 6A996 (“`Magnetometers' not controlled by ECCN 6A006, `Superconductive' electromagnetic sensors, and `specially designed' `components' therefor”).

BIS previously controlled certain of these nuclear- or missile-related items to Pakistan unilaterally for nuclear nonproliferation (NP2) reasons (see 81 FR 85138, November 25, 2016), and for Anti-Terrorism (AT) reasons to sanctioned and embargoed destinations (see 65 FR 38148, June 19, 2000 and 72 FR 3722, January 26, 2007). Accordingly, BIS has determined that prior U.S. government review of proposed exports, reexports, and transfers (in-country) of items controlled under the six ECCNs specified above to or within Pakistan, and the potential denial or approval with limiting conditions of such exports, reexports, and transfers (in-country), would advance U.S. national security and foreign policy interests by reducing the risk of diversion to unauthorized end uses and/or end users. BIS reminds exporters, reexporters, and transferors of items subject to the EAR to Pakistan that as a best practice, they should review BIS's Pakistan Due Diligence Guidance located on the BIS website at: https://www.bis.doc.gov/index.php/policy-guidance/pakistan-due-diligence-guidance.

Revisions to the EAR

Additional CCL-Based License Requirements

In this final rule, BIS is imposing additional CCL controls on exports and reexports to, as well as transfers (in-country) within, Pakistan pursuant to part 742 of the EAR. Specifically, BIS is adding a new paragraph to § 742.6 of the EAR to impose a license requirement on the export, reexport, or transfer (in-country) of certain items to or within Pakistan, for regional stability (RS) reasons. Pursuant to new paragraph (a)(12) of § 742.6, there will be a license requirement for exports, reexports, and transfers (in-country) to or within Pakistan of all items classified under ECCNs 1B999, 2A992, 2B999 (other than 2B999.h.2), 3A992, 3A999, and 6A996. Pursuant to new § 740.2(a)(25), the only license exceptions that will be available for the export, reexport, or transfer (in-country) to or within Pakistan of items subject to the new license requirement in § 742.6(a)(12) are TMP (limited to 740.9(a)(1), (a)(4), (a)(5), (a)(10), (b)(2), and (b)(3)), RPL (740.10), and GOV (limited to 740.11(a), (b), and (d)). However, BIS notes that consistent with § 744.16(b), license exceptions are generally unavailable when a party on the Entity List is a party to the transaction. For example, the Chashma and Karachi Nuclear Power Plants are subject to International Atomic Energy Agency (IAEA) safeguards but are listed on the Entity List under the entry for the Pakistan Atomic Energy Commission, under the subordinate entity “Nuclear reactors (including power plants).” The Organization for the Prohibition of Chemical Weapons (OPCW)-designated laboratory in Pakistan, the Analytical Laboratory of the Defense Science and Technology Organization (DESTO) is also listed on the Entity List. Accordingly, GOV (§ 740.11(a)) (IAEA shipments for international safeguards use) and GOV (§ 740.11(d)) (OPCW-related shipments), would not be available for exports or reexports of the foregoing items to these entities in support of IAEA/OPCW activities.

Review Policy

New paragraph (b)(13) of § 742.6 provides that license applications for exports, reexports, and transfers (in-country) to or within Pakistan of items controlled under ECCNs 1B999, 2A992, 2B999 (other than 2B999.h.2), 3A992, 3A999, and 6A996 will be reviewed on a case-by-case basis to determine whether the proposed export, reexport, or transfer (in-country) presents an unacceptable risk of use in, or diversion to, an end use or end user of concern, as set forth in part 744 of the EAR. If it is determined that the proposed export, reexport, or transfer (in-country) presents an unacceptable risk of use in, or diversion to, an end use or end user of concern, the application will be denied.

Accordingly, as of the effective date of this rule, exporters, reexporters, and transferors must seek a license from BIS to export, reexport, or transfer (in-country) items controlled under ECCNs 1B999, 2A992, 2B999 (other than 2B999.h.2), 3A992, 3A999, and 6A996 to Pakistan, regardless of end use or end user, unless a license exception specified in § 740.2(a)(25) is available.

Additional Revision

This rule also adds and reserves two new paragraphs § 742.6(a)(11) and (b)(12) in anticipation of future BIS rulemaking.

Savings Clause

For the changes being made in this final rule, shipments of items removed from eligibility for a License Exception or export, reexport, or transfer (in-country) without a license (NLR), or for which EEI filing is required as a result of this regulatory action that were en route aboard a carrier to a port of export or reexport on December 26, 2024, pursuant to actual orders for export or reexport to a foreign destination, may proceed to that destination under the previous eligibility for a License Exception or export, reexport, or transfer (in-country) without a license (NLR), and/or without an EEI filing, unless such filing is otherwise required by law or regulation independent of this action.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, the establishment of a list of controlled items; the prohibition of unauthorized exports, reexports, and transfers (in-country); the requirement of licenses or other authorizations for exports, reexports, and transfers (in-country) of controlled items; apprising the public of changes in policy, regulations, and procedures; and any other action necessary to carry out ECRA that is not otherwise prohibited by law. Pursuant to Section 1762(a) of ECRA (50 U.S.C. 4821(a)), these changes may be imposed in a final rule without prior notice and comment.

Rulemaking Requirements

1. BIS has examined the impact of this rule as required by Executive Orders (E.O.) 12866, 13563, and 14094, which direct agencies to assess all costs and benefits of available regulatory alternatives and, if regulation is necessary, to select regulatory approaches that maximize net benefits (e.g., potential economic, environmental, public, health, and safety effects, distributive impacts, and equity). Pursuant to E.O. 12866, as amended, this final rule is not a “significant regulatory action.”

2. Notwithstanding any other provision of law, no person is required to respond to or be subject to a penalty for failure to comply with a collection of information, subject to the requirements of the Paperwork Reduction Act of 1995 (PRA) (44 U.S.C. 3501 et seq.), unless that collection of information displays a currently valid Office of Management and Budget (OMB) Control Number. This rule involves the following OMB-approved collections of information subject to the PRA:

• 0694-0088, “Simple Network Application Process and Multipurpose Application Form,” which carries a burden hour estimate of 29.4 minutes for a manual or electronic submission;

• 0694-0096 “Five Year Records Retention Period,” which carries a burden hour estimate of less than 1 minute; and

• 0607-0152 “Automated Export System (AES) Program,” which carries a burden hour estimate of 3 minutes per electronic submission.

BIS estimates that these new controls on Pakistan under the EAR will result in an increase of 55 license applications submitted annually to BIS. However, the additional burden falls within the existing estimates currently associated with these control numbers. Additional information regarding these collections of information—including all background materials—can be found at: https://www.reginfo.gov/public/do/PRAMain by using the search function to enter either the title of the collection or the OMB Control Number.

3. This rule does not contain policies with federalism implications as that term is defined in Executive Order 13132.

4. As noted in the preamble, pursuant to Section 1762(a) of ECRA (50 U.S.C. 4821(a)), BIS may issue final rules that are exempt from certain rulemaking requirements. Specifically, this action is exempt from the Administrative Procedure Act (APA) (5 U.S.C. 553) requirements for notice of proposed rulemaking, opportunity for public participation, and delay in effective date. While Section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act (5 U.S.C. 601, et seq.) are not applicable. Accordingly, no regulatory flexibility analysis is required and none has been prepared.

List of Subjects

15 CFR Part 738

Administrative practice and procedure, Exports, Reporting and recordkeeping requirements.

15 CFR Part 740

Administrative practice and procedure, Exports, Reporting and recordkeeping requirements.

15 CFR Part 742

Exports, Terrorism.

15 CFR Part 774

Exports, Reporting and recordkeeping requirements, Terrorism.

Accordingly, parts 738, 740, 742 and 774 of the Export Administration Regulations (15 CFR parts 730-774) are amended as follows:

PART 738—[AMENDED]

1. The authority citation for 15 CFR part 738 continues to read as follows:

Authority: 50 U.S.C. 4801-4852; 50 U.S.C. 4601 et seq.; 50 U.S.C. 1701 et seq.; 10 U.S.C. 8720; 10 U.S.C. 8730(e); 22 U.S.C. 287(c); 22 U.S.C. 2151 note; 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

2. Supplement no. 1 to part 738 is amended by revising the entries for Pakistan and Ukraine in the Commerce Country chart to read as follows:

Supplement No. 1 to Part 738—Commerce Country Chart
[Reason for control]
Countries | Chemical and biological weapons: CB 1 | Chemical and biological weapons: CB 2 | Chemical and biological weapons: CB 3 | Nuclear non proliferation: NP 1 | Nuclear non proliferation: NP 2 | National security: NS 1 | National security: NS 2 | Missile tech: MT 1 | Regional stability: RS 1 | Regional stability: RS 2 | Firearms convention: FC 1 | Crime control: CC 1 | Crime control: CC 2 | Crime control: CC 3 | Anti- terrorism: AT 1 | Anti- terrorism: AT 2
* * * * * * *
Pakistan ⁸ | X | X | X | X | X | X | X | X | X | X |  | X | X | X |  |
* * * * * * *
Ukraine ⁹ | X |  |  |  |  | X | X | X | X | X |  | X | X |  |  |
* * * * * * *
⁸ See § 742.6(a)(12) for additional license requirements for exports, reexports, and transfers (in-country) of certain items to or within Pakistan.
⁹ See § 746.6 of the EAR for additional license requirements for exports and reexports to the Crimea region of Ukraine and the so-called Donetsk People's Republic (DNR) and Luhansk People's Republic (LNR) regions of Ukraine and transfers (in-country) within the Crimea, DNR, and LNR regions of Ukraine for all items subject to the EAR, other than food and medicine designated as EAR99 and certain EAR99 or ECCN 5D992.c software for internet-based communications.

PART 740—[AMENDED]

3. The authority citation for 15 CFR part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228; E.O. 13222, 66 FR 44025, 3 CFR, 2001 Comp., p. 783.

4. Amend § 740.2 by adding paragraph (a)(25) to read as follows:

§ 740.2 Restrictions on all license exceptions.

(a) * * *

(25) No license exception is available for the export, reexport, or transfer (in-country) to or within Pakistan of items controlled under ECCNs 1B999, 2A992, 2B999 (except 2B999.h.2), 3A992, 3A999, or 6A996 (see § 742.6(a)(12) of the EAR), apart from TMP (limited to 740.9(a)(1), (a)(4), (a)(5), (a)(10), (b)(2), and (b)(3)), RPL (740.10), or GOV (740.11(a), (b), or (d)).

* * * * *

PART 742—[AMENDED]

5. The authority citation for part 742 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 7, 2024, 89 FR 88867 (November 8, 2024).

6. Effective November 25, 2024, amend § 742.6 by adding reserved paragraphs (a)(11) and (b)(12) to read as follows:

§ 742.6 Regional stability.

(a) * *-*

(11) [Reserved]

(b) * * *

(12) [Reserved]

* * * * *

7. Amend § 742.6 by adding paragraphs (a)(12) and (b)(13) to read as follows:

§ 742.6 Regional stability.

(a) * * *

(12) RS requirements that apply to Pakistan. A license is required to export, reexport, or transfer (in-country) to or within Pakistan the following items: 1B999 (“Specific Processing Equipment, n.e.s.”); 2A992 (“Piping, fittings and valves made of, or lined with stainless, copper-nickel alloy or other alloy steel containing 10% or more nickel and/or chromium”); 2B999 (“Specific Processing Equipment, n.e.s.”), except 2B999.h.2; 3A992 (“General purpose electronic equipment not controlled by 3A002”); 3A999 (“Specific Processing Equipment, n.e.s.”); and 6A996 (“ `Magnetometers' not controlled by ECCN 6A006, `Superconductive' electromagnetic sensors, and `specially designed' `components' therefor”).

(b) * * *

(13) Applications for the export, reexport, or transfer (in-country) of any item that requires a license pursuant to paragraph (a)(12) of this section will be reviewed on a case-by-case basis to determine whether the proposed export, reexport, or transfer (in-country) presents an unacceptable risk of use in, or diversion to, an end use or end user of concern, as set forth in part 744 of the EAR. If it is determined that the proposed export, reexport, or transfer (in-country) poses an unacceptable risk of use in, or diversion to, an end use or end user of concern, the application will be denied.

* * * * *

PART 774—COMMERCE CONTROL LIST

8. The authority citation for part 774 continues to read as follows:

Authority: 50 U.S.C. 4801-4852; 50 U.S.C. 4601 et seq.; 50 U.S.C. 1701 et seq.; 10 U.S.C. 8720; 10 U.S.C. 8730(e); 22 U.S.C. 287c, 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

9. Supplement no. 1 to part 774 is amended by revising ECCNs 1B999, 2A992, 2B999, 3A992, 3A999, and 6A996 to read as follows:

Supplement No. 1 to Part 774—The Commerce Control List

* * * * *

1B999 Specific processing equipment, n.e.s., as follows (see List of Items Controlled).

License Requirements

Reason for Control: RS, AT

Control(s) | Country chart (see supp. no. 1 to part 738)
RS applies to entire entry | A license is required for items controlled by this entry for export or reexport to Iraq or Pakistan or transfer within Iraq or Pakistan for regional stability reasons. The Commerce Country Chart is not designed to determine RS license requirements for this entry. See §§ 742.6 and 746.3 of the EAR for additional information.
AT applies to entire entry | A license is required for items controlled by this entry to North Korea for anti-terrorism reasons. The Commerce Country Chart is not designed to determine AT license requirements for this entry. See § 742.19 of the EAR for additional information.

List Based License Exceptions (See Part 740 for a Description of All License Exceptions)

LVS: N/A

GBS: N/A

List of Items Controlled

Related Controls: See also 1B001, 1B101, 1B201, 1B225, and 1D999

Related Definitions: N/A

Items:

a. Electrolytic cells for fluorine production, n.e.s.

b. Particle accelerators.

c. Industrial process control hardware/systems designed for power industries, n.e.s.

d. Freon and chilled water cooling systems capable of continuous cooling duties of 100,000 BTU/hr (29.3 kW) or greater.

e. Equipment for the production of structural composites, fibers, prepregs and preforms, n.e.s.

* * * * *

2A992 Piping, fittings and valves made of, or lined with stainless, copper-nickel alloy or other alloy steel containing 10% or more nickel and/or chromium.

License Requirements

Reason for Control: RS, AT

Control(s) | Country chart (see supp. no. 1 to part 738)
RS applies to entire entry | A license is required for items controlled by this entry for export or reexport to Pakistan or transfer within Pakistan for regional stability reasons. The Commerce Country Chart is not designed to determine RS license requirements for this entry. See § 742.6(a)(12) of the EAR for additional information.
AT applies to entire entry | AT Column 1.

List Based License Exceptions (See part 740 for a description of all license exceptions)

LVS: N/A

GBS: N/A

List of Items Controlled

Related Controls:

(1) See ECCN 2D993 for software for items controlled under this entry.

(2) See ECCNs 2E001 (“development”), 2E002 (“production”), and 2E993 (“use”) for technology for items controlled under this entry.

(3) Also see ECCNs 2A226, 2B350 and 2B999. Related Definitions: N/A

Items:

a. Pressure tube, pipe, and fittings of 200 mm (8 in.) or more inside diameter, and suitable for operation at pressures of 3.4 MPa (500 psi) or greater;

b. Pipe valves having all of the following characteristics that are not controlled by ECCN 2B350.g:

b.1. A pipe size connection of 200 mm (8 in.) or more inside diameter; and

b.2. Rated at 10.3 MPa (1,500 psi) or more.

* * * * *

2B999 Specific Processing Equipment, n.e.s., as Follows (See List of Items Controlled).

License Requirements

Reason for Control: RS, AT

Control(s) | Country chart (see supp. no. 1 to part 738)
RS applies to entire entry except 2B999.h.2 | A license is required for items controlled by this entry, other than 2B999.h.2, for export or reexport to Pakistan or transfer within Pakistan for regional stability reasons. The Commerce Country Chart is not designed to determine RS license requirements for this entry. See § 742.6(a)(12) of the EAR for additional information.
AT applies to entire entry | A license is required for items controlled by this entry to North Korea for anti-terrorism reasons. The Commerce Country Chart is not designed to determine AT licensing requirements for this entry. See § 742.19 of the EAR for additional information.

List Based License Exceptions (See Part 740 for a Description of All License Exceptions)

LVS: N/A

GBS: N/A

List of Items Controlled

Related Controls: (1) See also 1B233, 2A992, 2A993, 2B001.f, 2B004, 2B009, 2B104, 2B109, 2B204, 2B209, 2B228, 2B229, 2B231, and 2B350. (2) Certain nuclear related processing equipment is subject to the export licensing authority of the Nuclear Regulatory Commission (see 10 CFR part 110).

Related Definitions: N/A

Items:

a. Isostatic presses, n.e.s.

b. Bellows manufacturing equipment, including hydraulic forming equipment and bellows forming dies.

c. Laser welding machines.

d. MIG welders.

e. E-beam welders.

f. Monel equipment, including valves, piping, tanks and vessels.

g. 304 and 316 stainless steel valves, piping, tanks and vessels.

Note: Fittings are considered part of “piping” for purposes of 2B999.g.

h. Mining and drilling equipment, as follows:

h.1. Large boring equipment capable of drilling holes greater than two feet in diameter.

h.2. Large earth-moving equipment used in the mining industry.

i. Electroplating equipment designed for coating parts with nickel or aluminum.

j. Pumps designed for industrial service and for use with an electrical motor of 5 HP or greater.

k. Vacuum valves, piping, flanges, gaskets and related equipment “specially designed” for use in high-vacuum service, n.e.s.

l. Spin forming and flow forming machines, n.e.s.

m. Centrifugal multiplane balancing machines, n.e.s.

n. Austenitic stainless-steel plate, valves, piping, tanks and vessels.

* * * * *

3A992 General purpose electronic equipment, not controlled by 3A002, as Follows (See List of Items Controlled).

License Requirements

Reason for Control: RS, AT

Control(s) | Country chart (see supp. no. 1 to part 738)
RS applies to entire entry. | A license is required for items controlled by this entry for export or reexport to Pakistan or transfer within Pakistan for regional stability reasons. The Commerce Country Chart is not designed to determine RS license requirements for this entry. See § 742.6(a)(12) of the EAR for additional information.
AT applies to entire entry | AT Column 1.

List Based License Exceptions (See Part 740 for a Description of All License Exceptions)

LVS: N/A

GBS: N/A

List of Items Controlled

Related Controls: N/A

Related Definitions: N/A

Items:

a. Electronic test equipment, n.e.s.

b. Digital instrumentation magnetic tape data recorders having any of the following characteristics;

b.1. A maximum digital interface transfer rate exceeding 60 Mbit/s and employing helical scan techniques;

b.2. A maximum digital interface transfer rate exceeding 120 Mbit/s and employing fixed head techniques; or

b.3. “Space qualified”.

c. Equipment, with a maximum digital interface transfer rate exceeding 60 Mbit/s, designed to convert digital video magnetic tape recorders for use as digital instrumentation data recorders.

d. Non-modular analog oscilloscopes having a bandwidth of 1 GHz or greater.

e. Modular analog oscilloscope systems having either of the following characteristics:

e.1. A mainframe with a bandwidth of 1 GHz or greater; or

e.2. Plug-in modules with an individual bandwidth of 4 GHz or greater.

f. Analog sampling oscilloscopes for the analysis of recurring phenomena with an effective bandwidth greater than 4 GHz.

g. Digital oscilloscopes and transient recorders, using analog-to-digital conversion techniques, capable of storing transients by sequentially sampling single-shot inputs at successive intervals of less than 1 ns (greater than 1 gigasample per second), digitizing to 8 bits or greater resolution and storing 256 or more samples.

Note: This ECCN controls the following “specially designed” “parts” and “components” for analog oscilloscopes:

1. Plug-in units;

2. External amplifiers;

3. Pre-amplifiers;

4. Sampling devices;

5. Cathode ray tubes.

* * * * *

3A999 Specific Processing Equipment, n.e.s., as Follows (See List of Items Controlled).

License Requirements

Reason for Control: RS, AT

Control(s) | Country Chart (See Supp. No. 1 to part 738)
RS applies to entire entry. | A license is required for items controlled by this entry for export or reexport to Iraq or Pakistan or transfer within Iraq or Pakistan for regional stability reasons. The Commerce Country Chart is not designed to determine RS license requirements for this entry. See §§ 742.6 and 746.3 of the EAR for additional information.
AT applies to entire entry | A license is required for items controlled by this entry to North Korea for anti-terrorism reasons. The Commerce Country Chart is not designed to determine AT license requirements for this entry. See § 742.19 of the EAR for additional information.

List Based License Exceptions (See Part 740 for a Description of All License Exceptions)

LVS: N/A

GBS: N/A

List of Items Controlled

Related Controls: (1) See also 3A225 (for frequency changers capable of operating in the frequency range of 600 Hz and above), and 3A233. (2) Certain auxiliary systems, equipment, “parts” and “components” for isotope separation plants, made of or protected by UF6 resistant materials are subject to the export licensing authority of the Nuclear Regulatory Commission (see 10 CFR part 110).

Related Definitions: N/A

Items:

a. Frequency changers capable of operating in the frequency range from 300 up to 600 Hz, n.e.s.

b. Mass spectrometers n.e.s.

c. All flash x-ray machines, and “parts” or “components” of pulsed power systems designed thereof, including Marx generators, high power pulse shaping networks, high voltage capacitors, and triggers.

d. Pulse amplifiers, n.e.s.

e. Electronic equipment for time delay generation or time interval measurement, as follows:

e.1. Digital time delay generators with a resolution of 50 nanoseconds or less over time intervals of 1 microsecond or greater.

e.2. Multi-channel (three or more) or modular time interval meter and chronometry equipment with resolution of 50 nanoseconds or less over time intervals of 1 microsecond or greater.

f. Chromatography and spectrometry analytical instruments.

* * * * *

6A996 “Magnetometers” not controlled by ECCN 6A006, “Superconductive” electromagnetic sensors, and “specially designed” “components” therefor, as follows (see List of Items Controlled).

License Requirements

Reason for Control: RS, AT

Control(s) | Country chart (see supp. no. 1 to part 738)
RS applies to entire entry. | A license is required for items controlled by this entry for export or reexport to Pakistan or transfer within Pakistan for regional stability reasons. The Commerce Country Chart is not designed to determine RS license requirements for this entry. See § 742.6(a)(12) of the EAR for additional information.
AT applies to entire entry | AT Column 1.

List Based License Exceptions (See Part 740 for a Description of All License Exceptions)

LVS: N/A

GBS: N/A

List of Items Controlled

Related Controls: N/A

Related Definitions: N/A

Items:

a. “Magnetometers”, n.e.s., having a `sensitivity' lower (better) than 1.0 nT (rms) per square root Hz.

Technical Note: For the purposes of 6A996, `sensitivity' (noise level) is the root mean square of the device-limited noise floor which is the lowest signal that can be measured.

b. “Superconductive” electromagnetic sensors, “components” manufactured from “superconductive” materials and having all the following:

b.1. Designed for operation at temperatures below the “critical temperature” of at least one of their “superconductive” constituents (including Josephson effect devices or “superconductive” quantum interference devices (SQUIDS));

b.2. Designed for sensing electromagnetic field variations at frequencies of 1 KHz or less; and

b.3. Having any of the following characteristics:

b.3.a. Incorporating thin-film SQUIDS with a minimum feature size of less than 2 µm and with associated input and output coupling circuits;

b.3.b. Designed to operate with a magnetic field slew rate exceeding 1 × 10⁶ magnetic flux quanta per second;

b.3.c. Designed to function without magnetic shielding in the earth's ambient magnetic field; or

b.3.d. Having a temperature coefficient less (smaller) than 0.1 magnetic flux quantum/K.

* * * * *

Thea D. Rozman Kendler,
Assistant Secretary for Export Administration.

[FR Doc. 2024-27648 Filed 11-25-24; 8:45 am]

BILLING CODE 3510-33-P